DEPARTMENT OF ENERGY

Federal Energy Regulatory Commission

Combined Notice of Filings #1

Take notice that the Commission received the following exempt wholesale generator filings:

Docket Numbers: EG17-115-000.

Applicants: NextEra Energy Bluff Point, LLC.

Description: Notice of Self-Certification of Exempt Wholesale Generator Status of NextEra Energy Bluff Point, LLC.

Filed Date: 6/8/17.

Accession Number: 20170608-5088.

Comments Due: 5 p.m. ET 6/29/17.

Take notice that the Commission received the following electric rate filings:

Docket Numbers: ER17-1092-001.

Applicants: Southwest Power Pool, Inc.

Description: Tariff Amendment: Deficiency Response in ER17-1092—Variable Demand Curve and Scarcity Pricing to be effective 5/11/2017.

Filed Date: 6/9/17.

Accession Number: 20170609-5155.

Comments Due: 5 p.m. ET 6/30/17.

Docket Numbers: ER17-1794-000.

Applicants: Innovative Solar 42, LLC.

Description: Baseline eTariff Filing: Application for Market Based Rate to be effective 6/10/2017.

Filed Date: 6/9/17.

Accession Number: 20170609-5150.

Comments Due: 5 p.m. ET 6/30/17.

Docket Numbers: ER17-1794-001.

Applicants: Innovative Solar 42, LLC.

Description: Tariff Amendment: Amendment to Pending Filing to be effective 6/10/2017.

Filed Date: 6/12/17.

Accession Number: 20170612-5001.

Comments Due: 5 p.m. ET 7/3/17.

Docket Numbers: ER17-1795-000.

Applicants: Southwest Power Pool, Inc.

Description: § 205(d) Rate Filing: Modifications of Conditions to Classify a Service Upgrade as a Base Plan Upgrade to be effective 8/8/2017.

Filed Date: 6/9/17.

Accession Number: 20170609-5151.

Comments Due: 5 p.m. ET 6/30/17.

Docket Numbers: ER17-1796-000.

Applicants: California Independent System Operator Corporation.

Description: § 205(d) Rate Filing: 2017-06-09 EIM Implementation Agreement with Powerex to be effective 8/15/2017.

Filed Date: 6/9/17.

Accession Number: 20170609-5156.

Comments Due: 5 p.m. ET 6/30/17.

Docket Numbers: ER17-1797-000.

Applicants: Otter Tail Power Company.

Description: Notice of Termination of Otter Tail Power Company Rate Schedule No. 159.

Filed Date: 6/9/17.

Accession Number: 20170609-5195.

Comments Due: 5 p.m. ET 6/30/17.

Take notice that the Commission received the following electric securities filings:

Docket Numbers: ES17-35-000.

Applicants: Northern Indiana Public Service Company.

Description: Application for Authorization to Issue Short-Term Debt of Northern Indiana Public Service Company.

Filed Date: 6/9/17.

Accession Number: 20170609-5193.

Comments Due: 5 p.m. ET 6/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2017.
Kimberly D. Bose,
Secretary.

[FR Doc. 2017-12672 Filed 6-16-17; 8:45 am]

BILLING CODE 6717-01-P